DEPARTMENT OF COMMERCE

International Trade Administration

North American Free Trade Agreement (NAFTA), Article 1904; Notice of Completion of Panel Review

AGENCY: United States Section, NAFTA Secretariat, International Trade Administration, Department of Commerce.

ACTION: Notice of Completion of Panel Review of the United States International Trade Commission's final determination of Polyethylene Terephthalate Resin from Canada, Secretariat File No. USA-CDA-2016-1904-01.

SUMMARY: A Request for Panel Review was filed on behalf of Selenis Canada, Inc. with the United States Section of the NAFTA Secretariat for the International Trade Commission's final determination regarding Polyethylene Terephthalate Resin from Canada on June 6, 2016. Pursuant to Rule 39(1) of the to the Article 1904 Panel Rules, the interested person shall file a Complaint within 30 days after filing a Request for Panel Review. No Complaint was filed on July 6, 2016. Therefore, pursuant to Rule 71(3), the panel review is deemed terminated the day after the expiration of the limitation period established in Rule 39(1), effectively July 7, 2016.

FOR FURTHER INFORMATION CONTACT: Paul E. Morris, United States Secretary, NAFTA Secretariat, Room 2061, 1401 Constitution Avenue NW., Washington, DC 20230, (202) 482-5438.

Dated: July 12, 2016.
Paul E. Morris,
United States Secretary, NAFTA Secretariat.

[FR Doc. 2016-16844 Filed 7-15-16; 8:45 am]

BILLING CODE 3510-GT-P